DEPARTMENT OF THE INTERIOR

National Park Service

[NPS-PWR-YOSE-13178; PS.SPWLA0028.00.1]

Minor Boundary Revision at Yosemite National Park

AGENCY: National Park Service, Interior.

ACTION: Notification of Boundary Revision.

SUMMARY: The boundary of Yosemite National Park is modified to include 80 acres of land. Fee simple interest in the land will be donated to the United States. The land is located in Mariposa County, California, immediately adjacent to the current western boundary of Yosemite National Park.

DATES: The effective date of this boundary revision is July 24, 2013.

ADDRESSES: The map depicting this boundary revision is available for inspection at the following locations: National Park Service, Land Resources Program Center, Pacific West Region, 333 Bush Street, Suite 500, San Francisco, California 94104, and National Park Service, Department of the Interior, 1849 C Street NW., Washington, DC 20240.

FOR FURTHER INFORMATION CONTACT: Chief Realty Officer Greg Gress, National Park Service, Land Resources Program Center, Pacific West Region, Suite 500, San Francisco, California 94104, telephone (415) 623-2120.

SUPPLEMENTARY INFORMATION: Notice is hereby given that, pursuant to 16 U.S.C. § 460l-9(c)(1), the boundary of Yosemite National Park is modified to include 80 acres of land identified as Tract 02-132, tax parcel number 006-070-010. Fee simple interest in the land will be donated to the United States. The land is located in Mariposa County, California, immediately adjacent to the current western boundary of Yosemite National Park. The boundary revision is depicted on Map No. 104/116,367 dated August 2012.

16 U.S.C. 460l-9(c)(1) provides that, after notifying the House Committee on Natural Resources and the Senate Committee on Energy and Natural Resources, the Secretary of the Interior is authorized to make this boundary revision upon publication of notice in the Federal Register. The Committees have been notified of this boundary revision. The inclusion and acquisition of this property will enable the National Park Service to better protect significant forest habitat while providing additional educational and recreational opportunities for visitors to the park.

Dated: June 7, 2013.
Christine S. Lehnertz,
Regional Director, Pacific West Region.

[FR Doc. 2013-17792 Filed 7-23-13; 8:45 am]

BILLING CODE 4312-FF-P